DEPARTMENT OF AGRICULTURE

Submission for OMB Review; Comment Request

November 23, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Publications Evaluation Card.

OMB Control Number: 0596-0163.

Summary of Collection: Executive Order 12862 issued September 11, 1993, directed Federal agencies to change the way they do business, to reform their management practices, to provide service to the public that matches or exceeds the best service available in the private sector, and to establish and implement customer service standards to carry out principles of the National Performance Review. In response to this Executive Order, the Forest Service (FS) Southern Research Station developed a “Publication Comment” Card for inclusion when distributing scientific research publications. FS has come to realize that some changes in their publications may be necessary to achieve their goals and wishes to elicit voluntary feedback from their readers to help determine the changes to make. FS will collect information using the comment card.

Need and Use of the Information: FS will collect information, which will ask the respondents to rate the publication that they received or read. The information will be used to improve the readability and usefulness of FS articles, papers, and books. The collected information will also help scientists and authors provide relevant information on effective, efficient, responsible land management. If the information is not collected FS will forgo any opportunity to learn if publications meet customers' expectations and address customers' needs.

Description of Respondents: Individuals or households.

Number of Respondents: 72,000.

Frequency of Responses: Reporting: On occasion.

Total Burden Hours: 4,800.

Forest Service

Title: Predecisional Objection Process for Hazardous Fuel Reduction Projects Authorized by Healthy Forest Restoration Act of 2003.

OMB Control Number: 0596-0172.

Summary of Collection: On December 3, 2003, President Bush signed into law the Healthy Forests Restoration Act of 2003 to reduce the threat of destructive wildfires while upholding environmental standards and encouraging early public input during review and planning processes. One of the provisions of the Act, in Section 105 requires that not later than 30 days after the date of the enactment of this Act, the Secretary of Agriculture shall promulgate interim final regulations to establish a predecisional administrative review process. This process services as the sole means by which a person can seek administrative review regarding an authorized hazardous fuel reduction project on Forest Service (FS) land.

Need and Use of the Information: Participants in the predecisional administrative review process must provide information the FS needs to respond to their concern. This written information needs to include the objector's name, address, phone number; the name of the project; name and title of the Responsible Official, the project location; and sufficient narrative description of those parts of the project that are objected to; specific issues related to the proposed decision, and suggested remedies which would resolve the objection. The collected information will be used by the Reviewing Officer in responding to those who participate in the objection process prior to a decision by the Responsible Official. FS could not meet the intent of Congress without collecting this information.

Description of Respondents: Individuals or households; State, Local or Tribal Government; Not-for-profit institutions.

Number of Respondents: 121.

Frequency of Responses: Reporting: On occasion.

Total Burden Hours: 968.

Forest Service

Title: Financial Information Security Request Form.

OMB Control Number: 0596-0204.

Summary of Collection: The majority of Forest Service's (FS) financial records are in databases stored at the National Finance Center (NFC). The Federal Information Security Reform Act of 2002 (Pub. L. 107-347) and Information Technology Management Reform Act of 1996 (Pub. L. 104-106) authorize the Forest Service to obtain information necessary for employees and contractors to access and maintain these records.

Need and Use of the Information: The Forest Service uses a paper and electronic version of its form FS-6500-214 to gather name, work email, work telephone number, job title, etc. for a specific employee or contractor to apply to NFC for access. Prior to filling out the form, contractors must first complete specific training before a user may request access to certain financial systems. NFC grants access to users only at the request of Client Security Officers. The unit's Client Security Officer is responsible for management of access to computers and coordinates all requests for NFC. The information collected is shared with those managing or overseeing the financial systems used by the FS; this includes auditors.

Description of Respondents: Contracted Employees.

Number of Respondents: 50.

Frequency of Reponses: Reporting: Yearly.

Total Burden Hours: 75.

Charlene Parker,
Departmental Information Collection Clearance Officer.

[FR Doc. 2010-30011 Filed 11-29-10; 8:45 am]

BILLING CODE 3410-11-P